DEPARTMENT OF TRANSPORTATION

Federal Transit Administration

Rides to Wellness Demonstration and Innovative Coordinated Access and Mobility Grants

AGENCY: Federal Transit Administration (FTA), DOT.

Funding Opportunity Number: FTA-2015-012-TPM-RTW

Catalog of Federal Domestic Assistance (CFDA) Number: 20.514

ACTION: Notice of funding opportunity (NOFO): solicitation of project proposals for Rides to Wellness Demonstration and Innovative Coordinated Access and Mobility Grants.

SUMMARY: The Federal Transit Administration (FTA) announces the availability of approximately $5.3 million of funding from two programs to support the Rides to Wellness Demonstration and Innovative Coordinated Access and Mobility Grants (R2W Demonstration Grants). The funding sources are: Section 3006(b) of the Fixing America's Surface Transportation Act (FAST), Pub. L. 114-94, which authorizes a pilot program for innovative coordinated access and mobility; and 49 U.S.C. 5312 (Section 5312).

The goal of the competitive R2W Demonstration Grants is to find and test promising, replicable public transportation healthcare access solutions that support the following goals: increased access to care, improved health outcomes and reduced healthcare costs. Eligible applicants include: States, Tribes, and Designated or Direct Recipients for funds under 49 U.S.C. 5307, 5310 or 5311. Proposers must serve as the lead agency of a local consortium that includes stakeholders from the transportation, healthcare, human service or other sectors. Members of this consortium are eligible as subrecipients. Further, proposers must demonstrate that the proposed project was planned through an inclusive process with the involvement of the transportation, healthcare and human service industries. Eligible projects must have implementation-ready capital and operating projects that enhance access, such as: mobility management; health and transportation provider partnerships; technology; and other actions that drive change. These R2W Demonstration Grants will develop best practice solutions that other communities can replicate.

This announcement is available on the FTA Web site at: http://www.fta.dot.gov/legislation_law/federal_register_notices.php. A synopsis of this funding opportunity will be posted in the FIND module of the government-wide electronic grants Web site at http://www.GRANTS.GOV. FTA will announce final selections on the FTA Web site and may also announce selections in the Federal Register.

DATES: Complete proposals must be submitted electronically through the GRANTS.GOV “APPLY” function by May 31, 2016. Prospective applicants should initiate the process by registering on the GRANTS.GOV Web site promptly to ensure completion of the application process before the submission deadline. Instructions for applying can be found on FTA's Web site at http://www.fta.dot.gov/grants/15066.html and in the “FIND” module of GRANTS.GOV. Mail and fax submissions will not be accepted.

FOR FURTHER INFORMATION CONTACT: Danielle Nelson, FTA Office of Program Management, 202-366-2160, or Danielle.Nelson@dot.gov.

Table Of Contents

A. Program Description

B. Federal Award Information

C. Eligibility Information

D. Application and Submission Information

E. Application Review Information

F. Federal Award Administration

G. Federal Awarding Agency Contact

A. Program Description

FTA announces the availability of funding from two programs to support the R2W Demonstration Grants. The funding sources are: Section 3006(b) of the FAST Act, which authorizes a pilot program for innovative coordinated access and mobility; and the 49 U.S.C. 5312 Research Program.

Current changes in the healthcare industry, from the passage of the Affordable Care Act to the increasing focus on preventive care, present an opportunity for public transportation to address transportation-related challenges to reduce healthcare costs, increase access to care and improve health outcomes for people. The healthcare industry's increasing focus on prevention and other improvements to the effectiveness and efficiency of care has resulted in an increased understanding of the value of partnerships between health and transportation.

R2W Demonstration Grants are part of a series of activities to support FTA's Rides to Wellness Program (R2W Program). The R2W Program seeks to address challenges for the transportation disadvantaged in getting access to healthcare, such as getting to the doctor, returning home from a hospital procedure; getting to rehabilitation services; getting to behavioral health services; getting to the pharmacy; and getting to free health screenings. Across the country, communities are experimenting with ways to overcome barriers to these essential services by leveraging partnerships across transportation, health, and wellness providers.

Through the R2W Demonstration Grants, FTA will fund projects with strategies that enhance access, such as mobility management, health and transportation provider partnerships, technology, and other actions that drive change. For historically disadvantaged populations, there are many challenges to maintaining optimal health. Through community partnerships that break down industry silos, leverage existing resources, enhance mobility for targeted groups, and develop a person-centric model, these projects will provide ladders of opportunity that improve the health of our citizens.

The goals of the R2W Program are to:

1. Increase access to care;

2. Improve health outcomes; and

3. Reduce healthcare costs.

To support these goals, the R2W Demonstration Grants will:

1. Develop replicable, innovative, sustainable solutions to healthcare access challenges.

2. Foster local partnerships between health, transportation, home and community-based services and other sectors to collaboratively develop and support solutions that increase healthcare access.

3. Demonstrate the impacts of transportation solutions on improved access to healthcare and health outcomes and reduced costs to the healthcare and transportation sectors.

Building upon previous planning activities and private or federally funded research activities, R2W Demonstration Grants will be awarded to communities ready to implement a public transportation healthcare access solution.

FTA's goal for these demonstration grants is to select and test promising transportation healthcare access solutions that other communities can replicate. It is expected that successful projects will work collaboratively and leverage partnerships among Federal agencies of the Coordinating Council on Access and Mobility (CCAM), including the Department of Health and Human Services' operating divisions such as the Administration for Community Living, the Health Resources and Services Administration, and the Centers for Medicare and Medicaid Services. Partnerships that cross health and transportation sectors facilitate better health for communities through increased access to health/wellness services through transportation. The R2W Demonstration Grants will operate as pilots for up to eighteen (18) months. Within the first year, projects must be able to demonstrate impacts related to the goals of R2W: Increased access to care, improved health outcomes, and reduced healthcare costs.

This notice solicits proposals for funding under two programs:

• Approximately $2 million in fiscal year (FY) 2016 funds under Section 3006(b) of the FAST Act, which authorizes a pilot program for innovative coordinated access and mobility.

• Approximately $3.3 million in FY 2015 funds for research projects under Section 5312, authorized by the Moving Ahead for Progress in the 21st Century Act (MAP 21), Public Law 112-141.

Section 3006(b) of the FAST Act authorizes a pilot program for innovative coordinated access and mobility. Under this program, the Secretary may make grants to eligible recipients to assist in financing innovative projects for the transportation disadvantaged that improve the coordination of transportation services and non-emergency medical transportation services, including:

(A) The deployment of coordination technology;

(B) Projects that create or increase access to community One-Call/One-Click Centers, and;

(C) Such other projects as determined appropriate by the Secretary.

49 U.S.C. 5312, as amended by MAP-21 and continued in the FAST Act, authorizes research, development, demonstration and deployment projects. Through this program, FTA may make grants, or enter into contracts, cooperative agreements and other agreements for research, development, demonstration and deployment projects, and evaluation of research and technology of national significance to public transportation that the Secretary of Transportation determines will improve public transportation. A demonstration and deployment project that receives assistance under this section must seek to build on successful research, innovation, and development efforts to facilitate:

(A) The deployment of research and technology development resulting from private efforts or Federally funded efforts, and;

(B) The implementation of research and technology development to advance the interests of public transportation.

This notice includes priorities established by FTA for these competitive funds, criteria FTA will use to identify meritorious projects for funding, and the process to apply for funding.

B. Federal Award Information

Only proposals from eligible recipients for eligible activities will be considered for funding. Due to funding limitations, proposers that are selected for funding may receive less than the amount originally requested. In those cases, applicants must be able to demonstrate that the proposed projects are still viable and can be completed with the amount awarded.

Type of Award: Competitive Grants.

Estimated Available Funds: $5,300,000. Contingent upon the availability of funds and the quality of applications, FTA may make additional awards in FY 2016 if additional resources become available.

There is no minimum or maximum grant award amount; however, FTA intends to fund as many meritorious projects as possible at funding levels necessary to conduct meaningful pilot testing.

C. Eligibility Information

1. Eligible Applicants

Eligible proposers for awards must be:

i. States, Tribes, Designated or Direct Recipients under 49 U.S.C. 5307, 5310 or 5311.

Proposers must serve as the lead agency of a local consortium that includes stakeholders from the transportation, healthcare, human service or other sectors. Members of this consortium are eligible as subrecipients. Further, proposers must demonstrate that the proposed project was planned through an inclusive process with the involvement of the transportation, healthcare and human service industries. An implementation plan and schedule must be submitted as part of the proposal.

2. Cost Sharing or Matching

The federal share of project costs for R2W Demonstration Grants is 80%, with the applicant providing a local share of 20% of the net project cost and documenting the source of the local match in the grant application.

The local match may include:

i. Cash from non-governmental sources other than revenues from providing public transportation services;

ii. Non-farebox revenues from the operation of public transportation service, such as the sale of advertising and concession revenues. A voluntary or mandatory fee that a college, university, or similar institution imposes on all its students for free or discounted transit service is not farebox revenue;

iii. Amounts received under a service agreement with a State or local social service agency or private social service organization;

iv. Undistributed cash surpluses, replacement or depreciation cash funds, reserves available in cash, or new capital;

v. Amounts appropriated or otherwise made available to a department or agency of the Federal Government (other than the U.S. Department of Transportation);

vi. In-kind contribution such as the market value of in-kind contributions integral to the project may be counted as a contribution toward local share; and

vii. Value capture revenue (revenue generated from value capture financing mechanisms).

3. Other

Eligible projects under this program are implementation-ready capital and operating projects that enhance public transportation access such as: Mobility management; health and transportation provider service partnerships; technology; and other activities. These demonstration grants are meant to build upon previous private or federally funded efforts such as: projects developed through the National Center for Mobility Management's Healthcare Access Mobility Design Challenge; the Administration for Community Living's Inclusive Coordinated Transportation Project, Round 2; the Veterans Transportation and Community Living Initiative (VTCLI); the Mobility Services for All Americans (MSAA) Initiative; or similar efforts. FTA's goal for these demonstration grants is to identify and test promising healthcare access solutions that other communities can replicate.

D. Application And Submission Information

All proposals must be submitted electronically through the GRANTS.GOV APPLY function. Any agency intending to apply should initiate the process of registering on the GRANTS.GOV site immediately to ensure completion of registration before the submission deadline. Instructions for applying can be found on FTA's Web site at http:/www.fta.dot.govbus, and in the “FIND” module of GRANTS.GOV.

A complete proposal submission will consist of at least two files: (1) The SF 424 Mandatory form (downloaded from GRANTS.GOV); and (2) the Applicant and Proposal Profile supplemental form for R2W Pilot program (supplemental form) found on the FTA Web site at http://www.fta.dot.gov/grants/15926.html. The supplemental form provides guidance and a consistent format for proposers to respond to the criteria outlined in this Notice of Funding Opportunity. Once completed, the supplemental form and business plan must be placed in the attachments section of the SF 424 Mandatory form. Proposers must use the supplemental form designated for the R2W Pilot program and attach it to their submission in GRANTS.GOV to successfully complete the application process. A proposal submission may contain additional supporting documentation as attachments.

Within 24-48 hours after submitting an electronic application, the applicant should receive three email messages from GRANTS.GOV: (1) Confirmation of successful transmission to GRANTS.GOV, (2) confirmation of successful validation by GRANTS.GOV and (3) confirmation of successful validation by FTA. If confirmations of successful validation are not received and a notice of failed validation or incomplete materials is received, the applicant must address the reason for the failed validation, as described in the email notice, and resubmit before the submission deadline. If making a resubmission for any reason, include all original attachments regardless of which attachments were updated and check the box on the supplemental form indicating this is a resubmission.

Complete instructions on the application process can be found at http://www.fta.dot.gov/about/15035.html. Important: FTA urges proposers to submit their applications at least 72 hours prior to the due date to allow time to receive the validation messages and to correct any problems that may have caused a rejection notification. FTA will not accept submissions after the stated submission deadline. GRANTS.GOV scheduled maintenance and outage times are announced on the GRANTS.GOV Web site at http://www.GRANTS.GOV. Deadlines will not be extended due to scheduled maintenance or outages.

Proposers are encouraged to begin the process of registration on the GRANTS.GOV site well in advance of the submission deadline. Registration is a multi-step process, which may take several weeks to complete before an application can be submitted. Registered proposers may still be required to take steps to keep their registration up to date before submissions can be made successfully: (1) Registration in the System for Award Management (SAM) is renewed annually and (2) persons making submissions on behalf of the Authorized Organization Representative (AOR) must be authorized in GRANTS.GOV by the AOR to make submissions. Instructions on the GRANTS.GOV registration process are listed in Appendix A.

Information such as proposer name, Federal amount requested, local match amount, description of areas served, etc. may be requested in varying degrees of detail on both the SF 424 form and supplemental form. Proposers must fill in all fields unless stated otherwise on the forms. Proposers should use both the “Check Package for Errors” and the “Validate Form” validation buttons on both forms to check all required fields on the forms, and ensure that the federal and local amounts specified are consistent.

1. Address To Request Application Package

To request a paper copy of the application materials for this program, contact Danielle Nelson, Federal Transit Administration, phone: (202) 366-2160, fax: (202) 366-3475, or email: Danielle.Nelson@dot.gov. A TDD is available at 1-800-877-8339 (TDDFIRS).

2. Content and Form of Application Submission

For complete and up to date guidance on the project information and project evaluation criteria that must be documented, refer to the Rides to Wellness Demonstration and Innovative Coordinated Access and Mobility Grants program on the FTA Web site: http://www.fta.dot.gov/grants/13077.html.

At a minimum, every proposal must:

• Submit an SF-424 with the correct supplemental form attached.

• Submit the supplemental form that clearly shows how the proposed project will meet FTA's goal to find and test promising public transportation healthcare access solutions that other communities can replicate.

• Include all relevant letters of commitment or support (these will not count against the page limit for the solicitation response).

• Provide a project timeline, including significant milestones.

• Provide Congressional district information for the project's place of performance.

3. Unique Entity Identifier and System for Award Management (SAM)

Each applicant (unless the applicant is an individual or Federal awarding agency that is excepted from those requirements under 2 CFR 25.110(b) or (c), or has an exception approved by the Federal awarding agency under 2 CFR 25.110(d)) is required to: (i) Be registered in SAM before submitting its application; (ii) provide a valid unique entity identifier in its application; and (iii) continue to maintain an active SAM registration with current information at all times during which it has an active grant or an application or plan under consideration. FTA may not make an award to an applicant until the applicant has complied with all applicable unique entity identifier and SAM requirements. If an applicant has not fully complied with the requirements by the time FTA is ready to make a Federal award, the FTA may determine that the applicant is not qualified to receive a Federal award and use that determination as a basis for making a Federal award to another applicant.

4. Submission Dates and Times

Project proposals must be submitted electronically through http://www.GRANTS.GOV by 11:59 p.m. E.D.T. on May 31, 2016. Mail and fax submissions will not be accepted.

5. Intergovernmental Review—Not Applicable

6. Funding Restrictions

Eligible expenditures include capital and operating expenses such as mobility management activities, equipment, software and information systems; as well as the acquisition of services as part of a pilot demonstration.

The FTA will issue specific guidance to recipients regarding pre-award authority at the time of selection. The FTA does not provide pre-award authority for competitive funds until projects are selected and even then there are Federal requirements that must be met before costs are incurred. For more information about FTA's policy on pre-award authority, please see the FY 2016 Apportionment Notice published on February 16, 2016. http://www.fta.dot.gov/grants/12853.html.

7. Other Submission Requirements

Project proposals must be submitted electronically through http://www.GRANTS.GOV by 11:59 p.m. E.D.T. on May 31, 2016. Mail and fax submissions will not be accepted.

E. Application Review Information

1. Project Evaluation Criteria

FTA will evaluate proposals submitted according to the following criteria: (i.) Demonstration of need; (ii.) demonstration of benefits; (iii.) planning and partnership; (iv.) local financial commitment; (v.) project readiness; and (vi.) technical, legal and financial capacity. Each proposer is encouraged to demonstrate the responsiveness of a project to any and all criteria with the most relevant information that the proposer can provide, regardless of whether such information has been specifically requested, or identified in this notice.

i. Demonstration of Need

FTA will evaluate proposals on the scale of the local healthcare access challenge addressed through the project. Both the scope of the overall challenge, as well as the size of the specific segment of the population served by the proposed project will also be considered.

ii. Demonstration of Benefits

FTA will evaluate proposals on the basis of the benefits from the proposed project. Benefits will be tied to the R2W Program's goals of increased access to care; improved health outcomes; and reduced healthcare costs. Benefits identified in the proposals will be evaluated at both the individual level, and that of the local health and transportation providers. Proposals will be judged on the extent to which the proposed project demonstrates a benefit to the healthcare access challenge demonstrated above. Projects will be evaluated on the ability of the proposed project to yield data demonstrating impacts on the goals of FTA's R2WProgram: To increase access to care, improve health outcomes and reduce healthcare costs. Proposals must show an ability to provide impactful data during and at the conclusion of the pilot project. Applicants need to be aware that if chosen for award, an independent evaluation of the demonstration grant may occur at various points in the deployment process and at the end of the pilot project.

iii. Planning and Partnership

Proposers must provide a description of the eligible project and outline project partners and their specific role in the project—including private entities and nonprofit entities involved in the coordination of nonemergency medical transportation services for the transportation disadvantaged. Include a description of how the eligible project would improve local coordination, or access to coordinated transportation service; reduce duplication of service, if applicable; and provide innovative solutions in the State and/or community. Proposers should provide evidence of strong commitment from key partners, including letters of support from relevant local stakeholders. An eligible recipient may submit an application in partnership with other entities that intend to participate in the implementation of the project. Applicants are advised that any changes to the proposed partnership will require FTA advance approval, and would need to be consistent with the scope of the approved project.

iv. Local Financial Commitment

Applicants must identify the source of the local share and describe whether such funds are currently available for the project or will need to be secured if the project is selected for funding. FTA will consider the availability of the local share as evidence of local financial commitment to the project. In addition, an applicant may propose a local share that is greater than the minimum requirement or provide documentation of previous local investment in the project as evidence of local financial commitment.

v. Project Readiness

FTA will evaluate the project on the proposed schedule and the consortium's ability to implement it. Proposers should indicate the short-term, mid-range and long-term goals for the project. Proposers also should provide a description of how the project will help the transportation disadvantaged and improve the coordination of transportation services and non-emergency medical transportation services, such as—the deployment of coordination technology; projects that create or increase access to community One-Call/One-Click Centers; mobility management; etc. Proposals should provide specific performance measures the eligible project will use to quantify actual outcomes against expected outcomes. FTA will evaluate the project on the extent to which it was developed inclusively, incorporating meaningful involvement from key stakeholders including consumer representatives of the target groups and providers from the healthcare, transportation and human service sectors, among others. Significant, ongoing involvement of the intended target population of the intervention must be shown.

vi. Technical, Legal and Financial Capacity

FTA will evaluate proposals on the capacity of the lead agency and any partners to successfully execute the pilot effort. There should be no outstanding legal, technical, or financial issues with the proposer that would make this a high-risk project. FTA will evaluate each proposal (including the business plan, financial projections, and other relevant data) for feasibility and longer-term sustainability of both the pilot project as well as the proposed project at full deployment. It is FTA's intent to select projects with a high likelihood of long-term success and sustainability.

2. Review and Selection Process

In addition to other FTA staff that may review the proposals, an inter-agency technical evaluation committee with membership from one or more agencies of the Coordinating Council on Access and Mobility may review proposals under the project evaluation criteria. Members of the technical evaluation committee and other involved FTA staff reserve the right to screen and rate the applications received and to seek clarification from any applicant about any statement in its application that FTA finds ambiguous and/or request additional documentation to be considered during the evaluation process to clarify information contained within the proposal.

After consideration of the ratings of the technical evaluation, the FTA will determine the final selection and amount of funding for each project. Geographic diversity and the applicant's receipt of other Federal funding may be considered in FTA's award decisions. FTA may provide reduced funding or fund only part of an application.

F. Federal Award Administration Information

1. Federal Award Notices

FTA may publish awards in a Federal Register Notice and on the FTA public Web site.

2. Administrative and National Policy Requirements

i. Pre-Award Authority

The FTA will issue specific guidance to recipients regarding pre-award authority at the time of selection. The FTA does not provide pre-award authority for competitive funds until projects are selected and even then there are Federal requirements that must be met before costs are incurred. For more information about FTA's policy on pre-award authority, please see the FY 2016 Apportionment Notice published on February 16, 2016. http://www.fta.dot.gov/grants/12853.html.

ii. Grant Requirements

If selected, awardees will apply for a grant through FTA's electronic grant management system and adhere to the customary FTA grant requirements. All competitive grants, regardless of award amount, will be subject to the congressional notification and release process. The FTA emphasizes that third-party procurement applies to all funding awards, as described in FTA.C.4220.1F. However, FTA may approve applications that include a specifically identified partnering organization(s) (2 CFR part 200, Section 200.320, sub paragraph (f)). When included, the application, budget and budget narrative should provide a clear understanding of how the selection of these organizations is critical for the project and of sufficient detail to understand the costs involved.

iii. Planning

The FTA encourages proposers to engage the appropriate State Departments of Transportation, Regional Transportation Planning Organizations, or Metropolitan Planning Organizations in areas likely to be served by the project funds made available under this programs.

iv. Standard Assurances

The applicant assures that it will comply with all applicable Federal statutes, regulations, executive orders, FTA circulars, and other Federal administrative requirements in carrying out any project supported by the FTA grant. The applicant acknowledges that it is under a continuing obligation to comply with the terms and conditions of the grant agreement issued for its project with FTA. The applicant understands that Federal laws, regulations, policies, and administrative practices might be modified from time to time and may affect the implementation of the project. The applicant agrees that the most recent Federal requirements will apply to the project, unless FTA issues a written determination otherwise. The applicant must submit the Certifications and Assurances before receiving a grant if it does not have current certifications on file.

3. Reporting

Post-award reporting requirements include submission of Federal Financial Reports and Milestone Reports in FTA's electronic grants management system.

G. Federal Awarding Agency Contact

For questions about applying for the programs outlined in this notice, please contact Danielle Nelson, Federal Transit Administration, phone: (202) 366-2160, fax: (202) 366-3475, or email, Danielle.Nelson@dot.gov. A TDD is available at 1-800-877-8339 (TDDFIRS).

Ellen Partridge,
Chief Counsel.

[FR Doc. 2016-07008 Filed 3-28-16; 8:45 am]

BILLING CODE P